DEPARTMENT OF LABOR

Employment and Training Administration

[TA-W-38, 531]

Owens-Brigam Medical Company, Newland, North Carolina; Notice of Termination of Investigation

Pursuant to section 221 of the Trade Act of 1974, an investigation was initiated on January 16, 2001, in response to a worker petition which was filed by a company official on behalf of one worker at Owens-BriGam Medical Company, Newland, North Carolina. Workers at that facility performed administration functions only.

The petitioner has requested that the petition be withdrawn. Consequently further investigation in this case would serve no purpose, and the investigation has been terminated.

Signed at Washington, DC, this 6th day of April, 2001.
Linda G. Poole,
Certifying Officer, Division of Trade Adjustment Assistance.

[FR Doc. 01-9718 Filed 4-18-01; 8:45 am]

BILLING CODE 4510-30-M